DEPARTMENT OF THE TREASURY

Privacy Act of 1974; System of Records

AGENCY: Alcohol and Tobacco Tax and Trade Bureau (TTB), Department of the Treasury.

ACTION: Notice of a Modified System of Records; correction.

SUMMARY: The Department of the Treasury published a document in the Federal Register of October 11, 2022, concerning a modified system of records for the Alcohol and Tobacco Tax and Trade Bureau. The document did not contain its related Regulations.gov docket number for the submission of comments.

FOR FURTHER INFORMATION CONTACT: Michael Hoover, Alcohol and Tobacco Tax and Trade Bureau, telephone 202-453-1039, ext. 135.

SUPPLEMENTARY INFORMATION:

Correction

In the Federal Register of October 11, 2022, in FR Doc 2022-21938, on page 61435, in the second column, in the ADDRESSES paragraph, correct the second sentence to read:

You may submit comments electronically via the Regulations.gov website at https://www.regulations.gov, using the comment form posted for this document within Docket No. TTB-2022-0010.

Dated: October 11, 2022.
Ryan Law,
Deputy Assistant Secretary for Privacy, Transparency, and Records.

[FR Doc. 2022-22443 Filed 10-14-22; 8:45 am]

BILLING CODE 4810-31-P